DEPARTMENT OF AGRICULTURE

Animal and Plant Health Inspection Service

7 CFR Part 319

[Docket No. 00-006-3]

Importation of Fruits and Vegetables; Technical Amendment

AGENCY: Animal and Plant Health Inspection Service, USDA.

ACTION: Final rule; technical amendment.

SUMMARY: In a final rule published in the Federal Register on August 28, 2001, we amended the fruits and vegetables regulations to list a number of fruits and vegetables from certain parts of the world as eligible, under specified conditions, for importation into the United States. In that final rule, we also recognized the Department of Petén in Guatemala and all Districts in Belize as areas free of the Mediterranean fruit fly. The final rule contained an error in the rule portion. This document corrects that error. We are also clarifying that peppers imported from Israel under the regulations must be packed in insect-proof packaging prior to movement from approved insect-proof screenhouses in the Arava Valley.

DATES: Effective on February 22, 2002.

FOR FURTHER INFORMATION CONTACT: Donna L. West, Import Specialist, Phytosanitary Issues Management Team, PPQ, APHIS, 4700 River Road Unit 140, Riverdale, MD 20737-1236; (301) 734-6799.

SUPPLEMENTARY INFORMATION:

Background

The regulations in 7 CFR 319.56 through 319.56-8 (referred to below as the regulations) prohibit or restrict the importation of fruits and vegetables into the United States from certain parts of the world to prevent the introduction and dissemination of fruit flies and other injurious plant pests that are new to or not widely distributed within the United States.

In a final rule published in the Federal Register on August 28, 2001 (66 FR 45151-45161, Docket No. 00-006-2), we amended the regulations to list a number of fruits and vegetables from certain parts of the world as eligible, under specified conditions, for importation into the United States. In that final rule, we also recognized the Department of Petén in Guatemala and all Districts in Belize as areas free of the Mediterranean fruit fly (Medfly).

One of the commodities listed as eligible for importation was peppers from Israel. As a condition of importation, the rule required that the “peppers must be packed in insect-proof containers prior to movement from approved insect-proof screenhouses in the Arava Valley.” Some regulated entities have interpreted “containers” to mean the large containers commonly used in the shipping industry. We intended to require peppers to be moved in insect-proof packaging, not shipping containers. Therefore, in order to avoid confusion, we are replacing the term “containers” with the word “packaging.”

Also, in the rule portion of the final rule, there was an error in the table in § 319.56-2x, which lists fruits and vegetables for which treatment is required. The table listed papaya from Belize except for papayas grown in a Medfly-free area in Belize. Since the final rule declared all districts in Belize as areas free of Medfly, no papayas from Belize require treatment for Medfly, and there is no need to list papaya from Belize in the table in § 319.56-2x. We are correcting our error in this document.

List of Subjects in 7 CFR Part 319

Bees, Coffee, Cotton, Fruits, Honey, Imports, Nursery Stock, Plant diseases and pests, Quarantine, Reporting and recordkeeping requirements, Rice, Vegetables.

Accordingly, we are amending 7 CFR part 319 as follows:

PART 319—FOREIGN QUARANTINE NOTICES

1. The authority citation for part 319 continues to read as follows:

Authority: 7 U.S.C. 166, 450, 7711-7714, 7718, 7731, 7732, and 7751-7754; 21 U.S.C. 136 and 136a; 7 CFR 2.22, 2.80, and 371.3.

§ 319.56-2u [Amended]

2. In § 319.56-2u, paragraph (b)(7) is amended by removing the word “containers” and adding the word “packaging” in its place.

§ 319.56-2x [Amended]

3. In § 319.56-2x, paragraph (a), the table is amended by removing the entry for Belize.

Done in Washington, DC, this 19th day of February 2002.
W. Ron DeHaven,
Acting Administrator, Animal and Plant Health Inspection Service.

[FR Doc. 02-4263 Filed 2-21-02; 8:45 am]

BILLING CODE 3410-34-P